DEPARTMENT OF COMMERCE

Bureau of Economic Analysis

15 CFR Part 801

[Docket No. 010607148-1277-02]

RIN 0691-AA42

International Services Surveys: BE-48, Annual Survey of Reinsurance and Other Insurance Transactions by U.S. Insurance Companies With Foreign Persons

AGENCY: Bureau of Economic Analysis, Commerce.

ACTION: Final rule.

SUMMARY: This final rule revises regulations for the BE-48, Annual Survey of Reinsurance and Other Insurance Transactions by U.S. Insurance Companies with Foreign Persons.

The BE-48 survey is conducted by the Bureau of Economic Analysis (BEA), U.S. Department of Commerce, under the International Investment and Trade in Services Survey Act. The data are needed to support U.S. trade policy initiatives; compile the U.S. international transactions, national income and product, and input-output accounts; assess U.S. competitiveness in international trade in services; and improve the ability of U.S. businesses to identify and evaluate market opportunities.

The revised rule raises the exemption level for the 2001 annual survey to $2 million in either reinsurance premiums, received or paid; reinsurance losses, paid or recovered; primary insurance premiums received; or primary insurance losses paid, from $1 million on the previous (2000) survey. Raising the exemption level will reduce respondent burden, particularly for small companies.

EFFECTIVE DATE: This final rule will be effective January 10, 2002.

FOR FURTHER INFORMATION CONTACT: R. David Belli, Chief, International Investment Division (BE-50), Bureau of Economic Analysis, U.S. Department of Commerce, Washington, DC 20230; phone (202) 606-9800.

SUPPLEMENTARY INFORMATION: In the September 5, 2001, Federal Register, volume 66, No. 172, 66 FR 46407-46408, BEA published a notice of proposed rulemaking setting forth revised reporting requirements for the BE-48, Annual Survey of Reinsurance and Other Insurance Transactions by U.S. Insurance Companies with Foreign Persons. No comments on the proposed rule were received. Thus, this final rule is the same as the proposed rule.

This final rule amends 15 CFR part 801 by revising Section 801.9(b)(4)(ii) to set forth revised reporting requirements for the BE-48 Annual Survey of Reinsurance and Other Insurance Transactions by U.S. Insurance Companies with Foreign Persons. The Bureau of Economic Analysis (BEA), U.S. Department of Commerce, will conduct the survey under the International Investment and Trade in Services Survey Act (Pub. L. 94-472, 90 Stat. 2059, 22 U.S.C. 3101-3108, as amended). Section 3103(a) of the Act provides that the President shall, to the extent he deems necessary and feasible—* * * (1) conduct a regular data collection program to secure current information * * * related to international investment and trade in services * * * . In Section 3 of Executive Order 11961, as amended by Executive Order 12518, the President delegated authority granted under the Act as concerns international trade in services to the Secretary of Commerce, who has redelegated it to BEA.

The major purposes of the survey are to monitor trade in services; to support U.S. trade policy initiatives; compile the U.S. international transactions, national income and product, and input-output accounts; assess U.S. competitiveness in international trade in services; and improve the ability of U.S. businesses to identify and evaluate market opportunities.

BEA will conduct the BE-48 annual survey for the reporting year 2001. The BE-48 estimates will cover the universe of reinsurance and other insurance transactions covered by the survey. Reporting is required from U.S. persons with reinsurance premiums, received or paid; reinsurance losses, paid or recovered; primary insurance premiums received; or primary insurance losses paid, in excess of $2 million during the reporting year. Respondents meeting these criteria must supply data on the amount of their reinsurance premiums, received or paid; reinsurance losses, paid or recovered; primary insurance premiums received; or primary insurance losses paid, disaggregated by county. Respondents that have covered transactions of $2 million or less during the reporting year are asked to provide voluntary estimates of their total premiums or losses of reinsurance and other insurance transactions.

Executive Order 12866

This final rule is not significant for purposes of E.O. 12866.

Executive Order 13132

This final rule does not contain policies with Federalism implications sufficient to warrant preparation of a Federalism assessment under E.O. 13132.

Paperwork Reduction Act

The collection of information required in this final rule has been approved by the Office of Management and Budget under the Paperwork Reduction Act. Notwithstanding any other provisions of the law, no person is required to respond to, nor shall any person be subject to a penalty for failure to comply with, a collection of information subject to the requirements of the Paperwork Reduction Act unless that collection displays a currently valid OMB Control Number; such a Control Number (0608-0016) has been displayed.

The survey is expected to result in the filing of reports, containing mandatory or voluntary data, from about 325 respondents. The average burden for completing the BE-48—both the mandatory and voluntary sections—is estimated to be 4 hours. thus, the total respondent burden of the survey is estimated at 1,300 hours (325 respondents times 4 hours average burden). The actual burden will vary from reporter to reporter, depending upon the number of their reinsurance and other insurance transactions and the ease of assembling the data. Thus, it may range from 1 hour for a reporter that has a small number of reinsurance and other insurance transactions and easily accessible data, or that reports only in the voluntary section of the form, to 20 hours for a very large reporter that engages in a large number of reinsurance and other insurance transactions and has difficulty in locating and assembling the required data. This estimate includes time for reviewing instructions, searching existing data sources, gathering and maintaining the data needed, and completing and reviewing the collection of information.

Comments regarding the burden estimate or any other aspect of this collection of information should be addressed to: Director, Bureau of Economic Analysis (BE-1), U.S. Department of Commerce, Washington, DC 20230, and to the Office of Management and Budget, O.I.R.A., Paperwork Reduction Project 0608-0016, Washington, DC 20503 (Attention PRA Desk Officer for BEA).

Regulatory Flexibility Act

The Chief Counsel for Regulation, Department of Commerce, has certified to the Chief Counsel for Advocacy, Small Business Administration, under provisions of the Regulatory Flexibility Act (5 U.S.C. 605(b)), that this final rule will not have a significant economic impact on a substantial number of small entities. The information collection excludes most small businesses from mandatory reporting. The reporting threshold for this survey is set at a level that will exempt most small businesses from reporting. The BE-48 annual survey will be required only from reporting threshold for this survey is set at a level that will exempt most small businesses from reporting. The BE-20 benchmark survey will be required only from U.S. persons with sales to, or purchases from, unaffiliated foreign persons in excess of $1 million during the reporting year, in a covered service; the exemption level for the previous benchmark survey, covering 1996, was $500,000. Thus, the exemption level will exclude most small businesses from mandatory coverage. Of those smaller businesses that must report, most will tend to have specialized operations and activities, so they will likely report only one type of transaction, often with a single partner country; therefore, the burden on them should be small.

List of Subjects in 15 CFR Part 801

Balance of payments, Economic statistics, Foreign trade, Penalties, Reporting and recordkeeping requirements.

Dated: November 13, 2001.
J. Steven Landefeld,
Director, Bureau of Economic Analysis.

For the reasons set forth in the preamble, BEA amends 15 CFR part 801, as follows:

PART 801—SURVEY OF INTERNATIONAL TRADE IN SERVICES BETWEEN U.S. AND FOREIGN PERSONS

1. The authority citation for 15 CFR part 801 continues to read as follows:

Authority: 5 U.S.C. 301, 15 U.S.C. 4908, 22 U.S.C. 3101-3108, and E.O. 11961 (3 CFR, 1977 Comp., p. 860 as amended by E.O. 12013 (3 CFR, 1977 Comp., p. 147), E.O. 12318 (3 CFR, 1981 Comp., p. 173), and E.O. 12518 (3 CFR, Comp., p. 348).

2. Section 801.9(b)(4)(ii) is revised to read as follows:

§ 801.9 Reports required.

(b) * * *

(4) * * *

(ii) Exemption. A. U.S. person otherwise required to report is exempt if, with respect to transactions with foreign persons, each of the following six items were $2 million or less in the reporting period: Reinsurance premiums received, reinsurance premiums paid, reinsurance losses paid, reinsurance losses recovered, primary insurance premiums received, and primary insurance losses paid. If any one of these items is greater than $2 million in the reporting period, a report must be filed.

[FR Doc. 01-30509 Filed 12-10-01; 8:45 am]

BILLING CODE 3510-06-M